DEPARTMENT OF HEALTH AND HUMAN SERVICES

Centers for Disease Control and Prevention

Notice of Award of a Single-Source Cooperative Agreement To Fund the Vietnam Department of Animal Health

AGENCY: Centers for Disease Control and Prevention (CDC), Department of Health and Human Services (HHS).

ACTION: Notice.

SUMMARY: The Centers for Disease Control and Prevention (CDC), located within the Department of Health and Human Services (HHS), announces the award of approximately $1,000,000, with an expected total funding of approximately $5,000,000 over a five-year project period, to the Vietnam Department of Animal Health. The award will strengthen capabilities and maintain the government run laboratory-supported surveillance at the animal-human interface for avian and non-avian influenza viruses, other zoonotic diseases (e.g., rabies, African Swine Fever, etc.), and other respiratory zoonotic viruses (e.g., SARS-CoV-2) in Vietnam.

DATES: The period for this award will be September 30, 2022, through September 29, 2027.

FOR FURTHER INFORMATION CONTACT: Nga Vuong, National Center for Immunization and Respiratory Diseases, Centers for Disease Control and Prevention, 1600 Clifton Rd. NE, MS H24-7, Atlanta, GA 30329, Telephone: 800-232-6348.

SUPPLEMENTARY INFORMATION: The single-source award will strengthen capabilities and maintain the government run laboratory-supported surveillance at the animal-human interface for avian and non-avian zoonotic influenza viruses, other zoonotic diseases, and other respiratory zoonotic viruses in Vietnam.

The Vietnam Department of Animal Health (DAH) is in a unique position to conduct this work because of their position as the sole official, authorized governmental agency with the legal and regulatory authority and ability to lead and manage animal health and pathogen surveillance. DAH provides technical management and oversight to its sub-departments across the country to implement animal surveillance and related activities such as outbreak investigation. DAH's 7 Regional Animal Health Offices (RAHOs) are strategically located throughout the country and have in-house lab testing capacity. DAH is at the center of a national network of collaborating animal health offices including the National Center for Veterinary Diagnosis. DAH possesses the high-quality lab and epidemiologic capacities to analyze influenza and other zoonotic and animal disease pathogens in the molecular, antigenic, diagnostic, and epidemiologic efforts. DAH has an established framework and systematic surveillance network to generate data on the occurrence of animal diseases and disease burden, to evaluate new diagnostic approaches, to develop standards for specimen collection and handling, and to communicate important new scientific development.

Summary of the Award

Recipient: Vietnam Department of Animal Health (DAH).

Purpose of the Award: The purpose of this award is to strengthen capabilities and maintain the government run laboratory-supported surveillance at the animal-human interface for avian and non-avian influenza viruses, other zoonotic diseases, and other respiratory zoonotic viruses in Vietnam. Activities supported through this award will also enhance the capacity of the Vietnamese Government to identify, monitor, respond, and mitigate risk factors to outbreaks of avian and non-avian zoonotic influenza viruses to decrease prevalence, morbidity, and mortality of disease within Vietnam; improve participation of Vietnam in global WHO vaccine strain selection and development; enhance multi-sector collaboration in outbreak investigation across the animal-health interface; and increase use of surveillance data for decision making around prevention and control activities to protect human population.

Amount of Award: $1,000,000 in Federal Fiscal Year (FFY) 2022 funds, and an estimated total of approximately $5,000,000 over the five-year project period, subject to availability of funds.

Authority: This program is authorized under Section 307 of the Public Health Service Act, as amended (42 U.S.C. 242l).

Period of Performance: September 30, 2022, through September 29, 2027.

Dated: January 19, 2022.
Terrance Perry,
Chief Grants Management Officer, Centers for Disease Control and Prevention.

[FR Doc. 2022-01274 Filed 1-21-22; 8:45 am]

BILLING CODE 4163-18-P